DEPARTMENT OF THE INTERIOR

Bureau of Indian Affairs

Notice of Intent To Prepare an Environmental Impact Statement for the Renewed Application for the Proposed Los Coyotes Band of Cahuilla and Cupeño Indians Fee-to-Trust Transfer and Casino-Hotel Project, San Bernardino County, California

AGENCY: Bureau of Indian Affairs, Interior.

ACTION: Notice.

SUMMARY: This notice advises the public that the Bureau of Indian Affairs (BIA) as lead agency, with the National Indian Gaming Commission and Los Coyotes Band of Cahuilla and Cupeño Indians (Tribe) as cooperating agencies, intends to gather information necessary for preparing an Environmental Impact Statement (EIS) for the Tribe's renewed application for a proposed 45-acre fee-to-trust transfer and casino and hotel project to be located in San Bernardino County, California. The BIA did not approve the original application as submitted, hence published a Notice of Cancellation of work on the EIS on May 19, 2008, in the Federal Register (73 FR 28841).

DATES: Written comments on the scope and implementation of this proposal must arrive by July 7, 2008.

ADDRESSES: You may mail or hand carry written comments to Dale Morris, Regional Director, Pacific Regional Office, Bureau of Indian Affairs, 2800 Cottage Way, Sacramento, California 95825. Please include your name, return caption, address and “DEIS Scoping Comments, Los Coyotes Band of Cahuilla and Cupeño Indians 45-Acre Fee-to-Trust Casino/Hotel Project, San Bernardino County, California”, on the first page of your written comments.

FOR FURTHER INFORMATION CONTACT: John Rydzik, (916) 978-6042.

SUPPLEMENTARY INFORMATION: The proposed action would transfer approximately 45 acres of land from fee to trust status, upon which the Tribe would develop a casino, hotel, parking and other supporting facilities. The property is located within the incorporated boundaries of the City of Barstow, San Bernardino County, California, just east of Interstate-15, near State Highways 58 and 247 and Interstate-40.

The BIA published a Notice of Intent to prepare an EIS for the original application on April 19, 2006, in the Federal Register (71 FR 20126). The notice included project details, which remain unchanged in the renewed application. As this notice on the renewed application in effect resumes work on the EIS, public scoping for the issues and alternatives to be analyzed in the EIS has already been done. The BIA will not, therefore, hold any additional public scoping meetings. This notice, however, does provide the public another 30-day period to submit comments on what should be covered in the EIS.

Areas of environmental concern identified for analysis in the EIS include land resources, water resources, biological resources, cultural resources, traffic and transportation, noise, air quality, public health/environmental hazards, public services and utilities, hazardous waste and materials, socio-economics, environmental justice and visual resources/aesthetics. In addition to the proposed action, alternatives identified for analysis include no-action, reduced-intensity development and two alternate sites. The range of issues and alternatives are open to expansion based on comments received in response to this notice.

Public Comment Availability

Comments, including names and addresses of respondents, will be available for public review at the BIA address shown in the ADDRESSES section, during regular business hours, 8 a.m. to 4:30 p.m., Monday through Friday, except holidays. Before including your address, phone number, e-mail address, or other personal identifying information in your comment, you should be aware that your entire comment—including your personal identifying information—may be made publicly available at any time. While you can ask us in your comment to withhold your personal identifying information from public review, we cannot guarantee that we will be able to do so.

Authority: This notice is published in accordance with sections 1503.1 and 1506.6 of the Council on Environmental Quality Regulations (40 CFR Parts 1500 through 1508) implementing the procedural requirements of the National Environmental Policy Act of 1969, as amended (42 U.S.C. 4321 et seq.), and the Department of the Interior Manual (516 DM 1-6), and is in the exercise of authority delegated to the Assistant Secretary—Indian Affairs by 209 DM 8.1.

Dated: May 23, 2008.
Carl J. Artman,
Assistant Secretary—Indian Affairs.

[FR Doc. E8-12638 Filed 6-5-08; 8:45 am]

BILLING CODE 4310-W7-P